DEPARTMENT OF HEALTH AND HUMAN SERVICES

Food and Drug Administration

[Docket No. FDA-2022-N-1959]

Joint Meeting of the Nonprescription Drugs Advisory Committee and the Obstetrics, Reproductive and Urologic Drugs Advisory Committee; Postponement of Meeting

AGENCY: Food and Drug Administration, HHS.

ACTION: Notice; postponement of meeting.

SUMMARY: The Food and Drug Administration (FDA) is postponing the joint meeting of the Nonprescription Drugs Advisory Committee and the Obstetrics, Reproductive and Urologic Drugs Advisory Committee scheduled for November 18, 2022. Future meeting dates will be announced in the Federal Register.

FOR FURTHER INFORMATION CONTACT: Moon Choi, Center for Drug Evaluation and Research, Food and Drug Administration, 10903 New Hampshire Ave., Bldg. 31, Rm. 2417, Silver Spring, MD 20993-0002, 301-796-2894, NDAC@fda.hhs.gov, or FDA Advisory Committee Information Line, 1-800-741-8138 (301-443-0572 in the Washington, DC area). Please call the Information Line for up-to-date information on this meeting.

SUPPLEMENTARY INFORMATION: The joint meeting of the Nonprescription Drugs Advisory Committee and the Obstetrics, Reproductive and Urologic Drugs Advisory Committee was originally announced in the Federal Register of September 13, 2022 (87 FR 56071). The meeting has been postponed to allow time for FDA to review new information. Future meeting dates will be announced in the Federal Register.

Dated: October 21, 2022.
Lauren K. Roth,
Associate Commissioner for Policy.

[FR Doc. 2022-23379 Filed 10-26-22; 8:45 am]

BILLING CODE 4164-01-P